FEDERAL COMMUNICATIONS COMMISSION

47 CFR Chapter I

[DA 11-412]

Possible Revision or Elimination of Rules

AGENCY: Federal Communications Commission.

ACTION: Review of regulations; comments requested.

SUMMARY: This document invites members of the public to comment on the Federal Communication Commission's (FCC's or Commission's) rules to be reviewed pursuant to section 610 of the Regulatory Flexibility Act of 1980, as amended (RFA). The purpose of the review is to determine whether Commission rules whose ten-year anniversary dates are in the year 2009, as contained in the Appendix, should be continued without change, amended, or rescinded in order to minimize any significant impact the rules may have on a substantial number of small entities. Upon receipt of comments from the public, the Commission will evaluate those comments and consider whether action should be taken to rescind or amend the relevant rule(s).

DATES: Comments may be filed on or before May 17, 2011.

FOR FURTHER INFORMATION CONTACT: Sharon K. Stewart, Chief of Staff, Office of Communications Business Opportunities (OCBO), Federal Communications Commission, (202) 418-0990. People with disabilities may contact the FCC to request reasonable accommodations (accessible format documents, sign language interpreters, CART, etc.) by e-mail: FCC504@fcc.gov or phone: 202-418-0530 or TTY: 202-418-0432.

ADDRESSES: Federal Communications Commission, Office of the Secretary, 445 12th Street, SW., Washington, DC 20554.

SUPPLEMENTARY INFORMATION: Each year the Commission will publish a list of ten-year old rules for review and comment by interested parties pursuant to the requirements of section 610 of the RFA.

Public Notice

FCC Seeks Comment Regarding Possible Revision or Elimination of Rules Under the Regulatory Flexibility Act, 5 U.S.C. 610

CB Docket No. 09-229

Released:

1. Pursuant to the Regulatory Flexibility Act (RFA), see 5 U.S.C. 610, the FCC hereby publishes a plan for the review of rules adopted by the agency in calendar year 1999 which have, or might have, a significant economic impact on a substantial number of small entities. The purpose of the review is to determine whether such rules should be continued without change, or should be amended or rescinded, consistent with the stated objective of section 610 of the RFA, to minimize any significant economic impact of such rules upon a substantial number of small entities.

2. This document lists the FCC regulations to be reviewed during the next twelve months. In succeeding years, as here, the Commission will publish a list for the review of regulations promulgated ten years preceding the year of review.

3. In reviewing each rule in a manner consistent with the requirements of section 610 the FCC will consider the following factors:

(a) The continued need for the rule;

(b) The nature of complaints or comments received concerning the rule from the public;

(c) The complexity of the rule;

(d) The extent to which the rule overlaps, duplicates, or conflicts with other Federal rules and, to the extent feasible, with State and local governmental rules; and

(e) The length of time since the rule has been evaluated or the degree to which technology, economic conditions, or other factors have changed in the area affected by the rule.

4. Appropriate information has been provided for each rule, including a brief description of the rule and the need for, and legal basis of, the rule. The public is invited to comment on the rules chosen for review by the FCC according to the requirements of section 610 of the RFA. All relevant and timely comments will be considered by the FCC before final action is taken in this proceeding.

Comments may be filed using the Commission's Electronic Comment Filing System (“ECFS”) or by filing paper copies. Comments filed through the ECFS may be sent as an electronic file via the Internet to http://www.fcc.gov/cgb/ecfs/. Generally, only one copy of an electronic submission must be filed. In completing the transmittal screen, commenters should include their full name, U.S. Postal Service mailing address, and the applicable docket (proceeding) and “DA” number.

Parties may also submit an electronic comment by Internet e-mail. To obtain filing instructions for e-mail comments, commenters should send an e-mail to ecfs@fcc.gov, and should include the following words in the body of the message: “get form.” A sample form and directions will be sent in reply. Parties who choose to file by paper must file an original and four copies of each filing. Again, please include the docket (proceeding) and “DA” number.

Filings can be sent by hand or messenger delivery, by commercial overnight courier, or by first-class or overnight U.S. Postal Service mail. All hand-delivered or messenger-delivered paper filings for the Commission's Secretary must be delivered to FCC Headquarters at 445 12th St., SW., Room TW-A325, Washington, DC 20554. Again, please include the docket (proceeding) and “DA” number.

The filing hours at this location are 8 a.m. to 7 p.m.

All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission.

Comments in this proceeding will be available for public inspection and copying during regular business hours at the FCC Reference Information Center, Portals II, 445 12th Street, SW., Room CY-A257, Washington, DC 20554. They may also be purchased from the Commission's duplicating contractor, Best Copy and Printing, Inc., 445 12th Street, SW., Room CY-B402, Washington, DC 20554, telephone 202-488-5300 or 800-378-3160, facsimile 202-488-5563, or via e-mail at fcc@bcniweb.com. To request materials in accessible formats for people with disabilities (Braille, large print, electronic files, audio format), send an e-mail to fcc504@fcc.gov or call the Consumer & Governmental Affairs Bureau at 202-418-0530 (voice), 202-418-0432 (TTY).

For information on the requirements of the RFA, the public may contact Carolyn Fleming Williams, Senior Deputy Director, Office of Communications Business Opportunities, 202-418-0990 or visit http://www.fcc.gov/ocbo.

Federal Communications Commission.
Thomas A. Reed,
Director, Office of Communications Business Opportunities.

Appendix

List of rules for review pursuant to the Regulatory Flexibility Act of 1980, 5 U.S.C. 610, for the ten-year period beginning in the year 1999 and ending in the year 2009. All listed rules are in Title 47 of the Code of Federal Regulations.

PART 1—PRACTICE AND PROCEDURE

Subpart E—Complaints, Applications, Tariffs, and Reports Involving Common Carriers

Brief Description: The rules in Part 1, Subpart E, prescribe the procedures, format, and content of complaints, applications, tariffs, and reports involving common carriers. Section 1.774 sets forth procedures for petitions for pricing flexibility. This rule establishes the content of such petitions and sets forth the procedures for opposing such petitions and for requesting confidentiality. The rule also establishes the time period after which various petitions will be deemed granted if the Commission has not denied the petition.

Need: Section 1.774 was adopted to establish procedures to implement the Commission's pricing flexibility framework by ensuring that the Commission's regulations did not interfere with the operation of competitive markets by removing services from price cap regulation as competition develops.

Legal Basis: 47 U.S.C. 151, 154(i), 154(j), 155, 225 and 303(r).

Section Number and Title:

1.774 Pricing flexibility.

Subpart F—Wireless Radio Services Applications and Proceedings

Brief Description: Part 1 contains rules pertaining to Commission practices and procedures. Subpart F sets forth the rules governing the authorization and licensing of Wireless Radio Services.

Need: These rules are needed to set forth the general application process and licensing rules for the Wireless Radio Services, including requirements for submitting applications that specify a mailing address for receiving service and correspondence and coordinating the assignment of frequencies near the Canada-United States borders.

Legal Basis: 47 U.S.C. 154, 161, 303 and 332.

Section Number and Title:

1.923(i) Content of applications.

1.928 Frequency coordination, Canada.

Subpart Z—Communications Assistance for Law Enforcement Act [CALEA]

Brief Description: Part 1 contains rules pertaining to Commission practices and procedures. Subpart Z specifies that all carriers subject to CALEA must comply with the assistance capability requirements of CALEA section 103 and the systems security and integrity requirements of CALEA section 105, and also lists the specific capability requirements pertaining to cellular, PCS, and wireline carriers. This subpart contains inter alia, rules that require a telecommunications carrier to ensure that any interception of communications or access to call-identifying information effected within its switching premises can be activated only in accordance with appropriate legal authorization, appropriate carrier authorization, and with the affirmative intervention of an individual officer or employee of the carrier acting in accordance with regulations prescribed by the Commission.

Need: These rules implement provisions of the Communications Assistance for Law Enforcement Act (CALEA), Public Law 103-414, 108 Stat. 4279 (1994) (codified as amended in sections of 18 U.S.C. and 47 U.S.C.). In 1999 the CALEA rules were added to Parts 22, 24 and 64. In 2006, the Commission consolidated the CALEA rules in new Subpart Z. The Commission also substantially modified the CALEA rules in 2006 in order to implement the statutory requirements of Section 103.

Legal Basis: 47 U.S.C. 151, 154(i), 157(a), 229, 301, 303 and 332.

Section Number and Title:

1.20000 Purpose.

1.20001 Scope.

1.20002 Definitions.

1.20003 Policies and provisions for employee control.

1.20004 Maintaining secure and accurate records.

1.20005 Submission of policies and procedures and Commission review.

1.20006 Assistance capability requirements.

1.20007 Additional assistance capability requirements for wireline, cellular, and PCS telecommunications carriers.

1.20008 Penalties.

PART 2—FREQUENCY ALLOCATIONS AND RADIO TREATY MATTERS; GENERAL RULES AND REGULATIONS

Subpart J—Equipment Authorization Procedures

Brief Description: These rules specify conditions associated with grant of equipment authorization under the Commission's rules.

Need: The rules provide procedures and conditions under which grants can be dismissed, limited and revoked. The rules also specify measurement procedures to be applied generally for radiofrequency devices.

Legal Basis: 47 U.S.C. 154, 302a, 303 and 336.

Section Number and Title:

2.960 Designation of Telecommunications Certification Bodies (TCBs).

2.962 Requirements for Telecommunications Certification Bodies.

2.1033 Application for certification.

2.1204 Import conditions.

2.1205 Filing of required declaration.

PART 5—EXPERIMENTAL RADIO SERVICE (OTHER THAN BROADCAST)

Subpart A—General

Brief Description: The Part 5 rules prescribe the manner in which eligibility, application, licensing and operating procedures and requirements of the radio frequency spectrum may be made available for experimentation.

Need: These rules permit experimentation in new radio technology and applications while ensuring the protection of incumbent services.

Legal Basis: 47 U.S.C. 154, 302 and 303.

Section Number and Title:

5.3 Scope of service.

Subpart B—Applications and Licenses

Brief Description, Need and Legal Basis: See Subpart A above.

Section Number and Title:

5.59 Forms to be used.

5.61 Procedure for obtaining a special temporary authorization.

5.89 School and student authorizations.

5.105 Authorized bandwidth.

5.109 Antenna and tower requirements.

PART 6—ACCESS TO TELECOMMUNICATIONS SERVICE, TELECOMMUNICATIONS EQUIPMENT AND CUSTOMER PREMISES EQUIPMENT BY PERSONS WITH DISABILITIES

Subpart A—Scope—Who Must Comply With These Rules?

Brief Description: Part 6 of the Commission's rules was adopted in 1999. These rules set forth the scope of the manufacturers and telecommunications providers which shall ensure that their equipment and services are accessible to and usable by persons with disabilities, if readily achievable; and define the types of accessibility obligations and processes for enforcement.

Need: Under section 255 of the Communications Act of 1934, as amended, manufacturers and telecommunications service providers shall ensure that people with disabilities have access to telecommunications services and related equipment, if readily achievable. Furthermore, where it is not readily achievable for equipment or services to be made accessible to and usable by individuals with disabilities, the manufacturer or service provider shall ensure that the equipment or services are compatible with existing peripheral devices or specialized customer premises equipment commonly used by individuals with disabilities to secure access, if readily achievable. The rules implementing section 255 are designed to increase the accessible products and services available in the marketplace.

Legal Basis: 47 U.S.C. 151-154, 201(b), 208, 251(a)(2), 255 and 303(r).

Section Number and Title:

6.1 Applicability.

Subpart B—Definitions

Brief Description, Need and Legal Basis: See Subpart A above.

Section Number and Title:

6.3 Definitions.

Subpart C—Obligations—What Must Covered Entities Do?

Brief Description, Need and Legal Basis: See Subpart A above.

Section Number and Title:

6.5 General obligations.

6.7 Product design, development and evaluation.

6.9 Information pass through.

6.11 Information, documentation, and training.

Subpart D—Enforcement

Brief Description, Need and Legal Basis: See Subpart A above.

Section Number and Title:

6.15 Generally.

6.16 Informal or formal complaints.

6.17 Informal complaints; form and content.

6.18 Procedure; designation of agents for service.

6.19 Answers to informal complaints.

6.20 Review and disposition of informal complaints.

6.21 Formal complaints, applicability of 1.720 through 1.736 of this chapter.

6.22 Formal complaints based on unsatisfied informal complaints.

6.23 Actions by the Commission on its own motion.

PART 7—ACCESS TO VOICEMAIL AND INTERACTIVE MENU SERVICES AND EQUIPMENT BY PEOPLE WITH DISABILITIES

Subpart A—Scope—Who Must Comply With These Rules?

Brief Description: Part 7 of the Commission's rules was adopted in 1999. These rules set forth the scope of manufacturers and information service providers which shall ensure that their voicemail and interactive menu equipment and services are accessible to and usable by persons with disabilities, if readily achievable; and define the types of accessibility obligations and processes for enforcement.

Need: Under section 255 of the Communications Act, manufacturers and telecommunications service providers shall ensure that people with disabilities have access to telecommunications services and related equipment, if readily achievable. Furthermore, where it is not readily achievable for equipment or services to be made accessible to and usable by individuals with disabilities, the manufacturer or service provider shall ensure that the equipment or services are compatible with existing peripheral devices or specialized customer premises equipment commonly used by individuals with disabilities to secure access, if readily achievable. The Commission asserted its ancillary jurisdiction to apply section 255 to providers of voicemail and interactive menu service, and to the manufacturers of equipment that perform those functions. In doing so, the Commission recognized that in order to carry out meaningfully the accessibility requirements of section 255, requirements comparable to those under section 255 should apply to these two information services, which are critical to making telecommunications accessible to and usable by people with disabilities.

Legal Basis: 47 U.S.C. 151-154, 201(b), 208, 251(a)(2), 255 and 303(r).

Section Number and Title:

7.1 Who must comply with these rules?

Subpart B—Definitions

Brief Description, Need and Legal Basis: See Subpart A above.

Section Number and Title:

7.3 Definitions.

Subpart C—Obligations—What Must Covered Entities Do?

Brief Description, Need and Legal Basis: See Subpart A above.

Section Number and Title:

7.5 General obligations.

7.7 Product design, development, and evaluation.

7.9 Information pass through.

7.11 Information, documentation and training.

Subpart D—Enforcement

Brief Description, Need and Legal Basis: See Subpart A above.

Section Number and Title:

7.15 Generally.

7.16 Informal or formal complaints.

7.17 Informal complaints; form and content.

7.18 Procedure; designation of agents for service.

7.19 Answers to informal complaints.

7.20 Review and disposition of informal complaints.

7.21 Formal complaints, applicability of 1.720 through 1.736 of this chapter.

7.22 Formal complaints based on unsatisfied informal complaints.

7.23 Actions by the Commission on its own motion

PART 13—COMMERCIAL RADIO OPERATORS

Brief Description: The Part 13 rules prescribe the manner and conditions under which commercial radio operators are licensed by the Commission.

Need: These rules specify the authority conveyed by Part 13 Commercial Radio Operator licenses and require applicants for Commercial Radio Operator licenses (except applicants for a Restricted Radiotelephone Operator Permit and Restricted Radiotelephone Operator Permit—Limited Use) to specify a mailing address.

Legal Basis: 47 U.S.C. 154 and 303, and applicable treaties and agreements to which the United States is a party.

Section Number and Title:

13.8 Authority conveyed.

13.10 Licensee address.

PART 15—RADIO FREQUENCY DEVICES

Subpart A—General

Brief Description: These rules sets out the regulations under which an intentional, unintentional, or incidental radiator may be operated without an individual license. These rules contain the technical specifications, administrative requirements and other conditions relating to the marketing of part 15 devices.

Need: These rules are necessary to promote the efficient use of the radio spectrum by preventing harmful interference to licensed radio services that share the same spectrum or nearby spectrum as unlicensed devices.

Legal Basis: 47 U.S.C. 154, 302a, 303, 304, 307, 336 and 544a.

Section Number and Title:

15.3 Definitions.

15.37 Transition provisions for compliance with the rules.

Subpart B—Unintentional Radiators

Brief Description, Need and Legal Basis: See Subpart A above.

Section Number and Title:

15.101 Equipment authorization of unintentional radiators.

15.121 Scanning receivers and frequency converters used with scanning receivers.

PART 18—INDUSTRIAL, SCIENTIFIC, AND MEDICAL EQUIPMENT

Subpart B—Applications and Authorizations General

Brief Description: These rules specify the technical standards and other requirements for certain equipment or appliances that generate and use locally radiofrequency energy for industrial, scientific, medical purposes, excluding telecommunications applications, to be marketed and operated within the United States.

Need: These rules are needed to regulate industrial, scientific and medical (ISM) equipment that emits electromagnetic energy on frequencies within the radiofrequency spectrum in order to prevent harmful interference to authorized radio communications services.

Legal Basis: 47 U.S.C. 4, 301, 302, 303, 304 and 307.

Section Number and Title:

18.213 Information to the user.

Subpart C—Technical Standards

Brief Description, Need and Legal Basis: See entry immediately above.

Section Number and Title:

18.307 Conduction limits.

PART 20—COMMERCIAL MOBILE RADIO SERVICES

Subpart B—Common Carrier Services

Brief Description: These rules set forth the requirements and conditions applicable to commercial mobile radio service providers.

Need: This rule establishes the 218-219 MHz Service as a commercial mobile radio service.

Legal Basis: 47 U.S.C. 154, 160, 201, 251-254, 303 and 332.

Section Number and Title:

20.9(a)(12) Commercial mobile radio service.

PART 22—PUBLIC MOBILE SERVICES

Subpart B—Licensing Requirements and Procedures

Brief Description: The Part 22 rules state the conditions under which radio stations may be licensed and used in the Paging and Rural, Air-Ground, Cellular and Offshore Radiotelephone Services. Subpart B sets forth rules governing the licensing requirements and procedures regarding the operation of cellular radiotelephone systems.

Need: These rules are needed to implement the Commission's competitive bidding authority under 47 U.S.C. 309(j). Section 22.213 informs the public that, after an auction, the Commission will accept long form applications for paging geographic authorizations only from the auction winners and parties seeking partitioned authorizations with auction winners.

Legal Basis: 47 U.S.C. 154, 310, 302, 303, 309 and 332.

Section Number and Title:

22.213 Filing of long-form applications.

Subpart E—Paging and Radiotelephone Service

Brief Description: The Part 22 rules state the conditions under which radio stations may be licensed and used in the Paging and Rural, Air-Ground, Cellular and Offshore Radiotelephone Services. Subpart E sets forth rules governing the licensing and operations of paging and radiotelephone service.

Need: These rules establish requirement for partitioning licenses and disaggregating spectrum, and permit Part 22 licensees to keep certain antenna information on file and produce it upon request, instead of requiring mandatory filing with the Commission.

Legal Basis: 47 U.S.C. 154, 310, 302, 303, 309 and 332.

Section Number and Title:

22.513 Partitioning and disaggregation.

22.529(c) Applications requirements for the Paging and Radiotelephone Service.

Subpart F—Rural Radiotelephone Service

Brief Description: The Part 22 rules state the conditions under which radio stations may be licensed and used in the Paging and Rural, Air-Ground, Cellular and Offshore Radiotelephone Services. Subpart F sets forth rules governing the licensing and operations of rural radiotelephone service.

Need: This rule permits Part 22 licensees to keep certain antenna information on file and produce it upon request, instead of requiring mandatory filing with the Commission.

Legal Basis: 47 U.S.C. 154, 310, 302, 303, 309 and 332.

Section Number and Title:

22.709(f) Rural radiotelephone service application requirements.

Subpart H—Cellular Radiotelephone Service

Brief Description: The Part 22 rules state the conditions under which radio stations may be licensed and used in the Paging and Rural, Air-Ground, Cellular and Offshore Radiotelephone Services. Subpart H sets forth rules governing the licensing and operations of cellular radiotelephone service.

Need: These rules require that analog cellular phones include a separate capability for processing 911 calls that permits those calls to be handled, where necessary, by either cellular carrier in the area, and permit Part 22 licensees to keep certain antenna information on file and produce it upon request, instead of requiring mandatory filing with the Commission.

Legal Basis: 47 U.S.C. 154, 310, 302, 303, 309 and 332.

Section Number and Title:

22.921 911 Call processing procedures; 911-only calling mode.

22.929(d) Application requirements for the Cellular Radiotelephone Service.

PART 25—SATELLITE COMMUNICATIONS

Brief Description: Section 25.200 created a voluntary equipment authorization procedure for certain kinds of mobile earth station terminals.

Need: This rule is not needed. It was removed from the CFR in 2002.

Legal Basis: 47 U.S.C. 701-744.

Section Number and Title:

25.200 Interim Equipment Authorization.

PART 42—PRESERVATION OF RECORDS OF COMMUNICATION COMMON CARRIERS

Brief Description: Part 42 implements sections 219 and 220 of the Communications Act of 1934, as amended, which authorize the Commission to require communications common carriers to keep records and file reports. The Part 42 rules facilitate enforcement of the Communications Act by ensuring the availability of communication common carrier records needed by the Commission to meet its regulatory obligations.

Need: Section 42.10 requires non-dominant interexchange carriers to make available to any member of the public in at least one location, during normal business hours information concerning the rates, terms, and conditions for their international and interstate, domestic, interexchange services. Section 42.10 also requires that non-dominant interexchange carriers that maintain Internet Web sites make this information available online. Section 42.10 was adopted to enable the Commission to meet its statutory duty of ensuring that rates, terms and conditions for these services are just, reasonable, and not unreasonably discriminatory and to investigate and resolve complaints about such services. Although it might be preferable merely to require that the information be made available on the Internet, until such a rule is promulgated, Section 42.10 ensures that the information is available to consumers.

Legal Basis: 47 U.S.C. 154(i), 219 and 220.

Section Number and Title:

42.10 Public availability of information concerning interexchange services.

PART 43—REPORTS OF COMMUNICATION COMMON CARRIERS AND CERTAIN AFFILIATES

Brief Description: Section 43.51(f) provides the procedures for carriers to request confidential treatment of the filing of contracts covering service on an international route and the rates, terms, and conditions that govern the settlement of U.S. international traffic.

Need: The filing of contracts by U.S. carriers provides a valuable tool to the Commission to ensure that U.S. carriers do not enter into arrangements that would allow the foreign carrier to exercise its market power to the detriment of U.S. consumers. Public disclosure of such contracts, however, may have a chilling effect on pro-competitive termination arrangements because parties may be more reluctant to conclude arrangements that must be disclosed publicly. This rule balances these two competing concerns of promoting competition, while precluding the abuse of foreign market power by allowing confidential treatment of the contracts.

Legal Basis: 47 U.S.C. 154.

Section Number and Title:

43.51(f) Contracts and concessions.

PART 51—INTERCONNECTION

Subpart D—Additional Obligations of Incumbent Local Exchange Carriers

Brief Description: This subsection generally implements section 251(c) of the Communications Act of 1934, as amended. Section 51.321 requires incumbent local exchange carriers to provide any technically feasible method of obtaining interconnection or access to unbundled network elements at a particular point upon request by a telecommunications carrier, on terms and conditions that are just, reasonable, and non-discriminatory. Paragraph (h) establishes the parameters for the available collocation space reports that incumbent LECs must provide to requesting carriers seeking collocation. Paragraph (i) requires incumbent LECs to remove obsolete, unused equipment upon request in order to make more collocation space available.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(2) and (3) and 251(d).

Section Number and Title:

51.321(h), (i) Methods of obtaining interconnection and access to unbundled elements under section 251 of the Act.

Brief Description: This subsection generally implements section 251(c) of the Communications Act of 1934, as amended. Section 51.323 establishes the standards incumbent LECs must meet in order to comply with their obligation to provide physical and virtual collocation. Paragraph k enumerates the requirements for physical collocation via caged, cageless, and adjacent space arrangements.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(2) and (6) and 251(d).

Section Number and Title:

51.323(k) Standards for physical collocation and virtual collocation.

Brief Description: This subsection generally implements section 251(c) of the Communications Act of 1934, as amended. Section 51.325 requires incumbent LECs to provide public notice regarding network changes generally, and paragraph (a)(3) specifically requires public notice of network changes that will affect the manner in which customer premises equipment is attached to the interstate network.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(6) and 251(d).

Section Number and Title:

51.325(a)(3) Notice of network changes: Public notice requirement.

PART 54—UNIVERSAL SERVICE

Subpart D—Universal Service Support for High Cost Areas

Brief Description: These rules specify the requirements for the high-cost support mechanism. These rules establish how high-cost support will be calculated and distributed to eligible telecommunications providers.

Need: In implementing statutory requirements for the high-cost program of the universal service support mechanism, these rules ensure that rates in rural, insular and high-cost areas are “reasonably comparable” to rates charged for similar services in urban areas.

Legal Basis: 47 U.S.C. 254(b).

Section Number and Title:

54.307(c) Support to a competitive eligible telecommunications carrier.

54.309 Calculation and distribution of forward-looking support for non- rural carriers.

54.311 Interim hold-harmless support for non-rural carriers.

54.313 State certification of support for non-rural carriers.

Subpart G—Universal Service Support for Health Care Providers

Brief Description: These rules specify the requirements for participation in the Rural Health Care Program of the universal service support mechanism. The rules establish the requirements for eligible health care providers, and the services eligible for discounted support. The rules also establish procedures for the application process, competitive bidding process, and the distribution of support. Finally, these rules establish recordkeeping and auditing requirements.

Need: In implementing statutory requirements for the Rural Health Care support mechanism, these rules ensure that discounts are available to eligible rural health care providers for telecommunications services and monthly Internet access service charges.

Legal Basis: 47 U.S.C. 254(h)(2)(A).

Section Number and Title:

54.609(a)(1) and (2) Calculating support.

54.613 Limitations on supported services for rural health care providers.

Subpart H—Administration

Brief Description: These rules specify the requirements regarding the Universal Service Administrative Company, as the permanent Administrator for the universal service support mechanism. These rules establish the Administrator's functions and responsibilities, as well as the composition of the Administrator's Board of Directors and Committees. These rules also establish requirements regarding contributions and contributor reporting requirements.

Need: In implementing statutory requirements for the universal service support mechanism, these rules provide the framework and requirements for the administration of the program.

Legal Basis: 47 U.S.C. 254.

Section Number and Title:

54.706(d) Contributions.

54.708 De minimis exemption.

54.711 Contributor reporting requirements.

PART 61—TARIFFS

Subpart A—General

Brief Description: The Part 61 rules are designed to implement the provisions of sections 201, 202, 203, and 204 of the Communications Act of 1934, as amended, and ensure that rates are just, reasonable, and not unjustly or unreasonably discriminatory. These rules govern the filing, form, content, public notice periods, and accompanying support materials for tariffs.

Need: Section 61.3 (nn), (oo), and (pp) were adopted to define terms used elsewhere in the Commission's tariff regulations applicable to interstate, domestic, interexchange services.

Legal Basis: 47 U.S.C. 151, 154(i), 154(j), 201-205 and 403.

Section Number and Title:

61.3(nn), (oo), and (pp) Definitions.

Subpart C—General Rules for Nondominant Carriers

Brief Description: The Part 61 rules are designed to implement the provisions of sections 201, 202, 203, and 204 of the Communications Act of 1934, as amended, and ensure that rates are just, reasonable, and not unjustly or unreasonably discriminatory. These rules govern the filing, form, content, public notice periods, and accompanying support materials for tariffs.

Need: The Part 61, Subpart C rules apply to non-dominant carriers. Section 61.18 sets forth the scope of the Subpart C rules. Section 61.22(c)(2) and (e) were adopted to allow carriers to reduce the administrative burden associated with tariff filings.

Legal Basis: 47 U.S.C. 151, 154(i), 154(j), 201-205 and 403.

Section Number and Title:

61.18 Scope.

61.22(c)(2), and (e) Composition of tariffs.

Subpart D—General Tariff Rules for International Dominant Carriers

Brief Description: The Part 61 rules are designed to implement the provisions of sections 201, 202, 203, and 204 of the Communications Act of 1934, as amended, and ensure that rates are just, reasonable, and not unjustly or unreasonably discriminatory. These rules govern the filing, form, content, public notice periods, and accompanying support materials for tariffs.

Need: The Part 61, Subpart D rules apply to international dominant carriers. Section 61.28 was adopted to specify tariff filing requirements for such carriers to ensure rates are just, reasonable, and not unjustly or unreasonably discriminatory.

Legal Basis: 47 U.S.C. 151, 154(i), 154(j), 201-205 and 403.

Section Number and Title:

61.28 International dominant carrier tariff filing requirements.

Subpart E—General Rules for Dominant Carriers

Brief Description: The Part 61 rules are designed to implement the provisions of sections 201, 202, 203, and 204 of the Communications Act of 1934, as amended, and ensure that rates are just, reasonable, and not unjustly or unreasonably discriminatory. These rules govern the filing, form, content, public notice periods, and accompanying support materials for tariffs.

Need: The Part 61, Subpart E rules apply to dominant carriers. Section 61.31 sets forth the scope of the Subpart E rules. Section 61.38(g) and (f) specify tariff filing procedures designed to allow consumers to determine with which tariffs supporting information is associated. Section 61.42(d)(4)(ii) allows carriers to remove certain tolls from their interexchange baskets under certain conditions.

Legal Basis: 47 U.S.C. 151, 154(i), 154(j), 201-205 and 403.

Section Number and Title:

61.31 Scope.

61.38(g) and (f) Supporting information to be submitted with letters of transmittal.

61.42(d)(4)(ii) Price cap baskets and service categories.

Brief Description: The Part 61 rules are designed to implement the provisions of sections 201, 202, 203, and 204 of the Communications Act of 1934, as amended, and ensure that rates are just, reasonable, and not unjustly or unreasonably discriminatory. These rules govern the filing, form, content, public notice periods, and accompanying support materials for tariffs.

Need: Section 61.46 was adopted to specify to carriers how, in connection with any price cap tariff filing proposing rate changes, the carrier must calculate its Actual Price Index (API) for each affected basket and what revenues and elements must be included in the calculation and appropriate methodologies to be used in making the required calculations. Section 61.47 was adopted to specify the appropriate calculation methodology to determine the Service Band Index (SBI) value for each affected service category, subcategory or density zone when a price cap tariff filing proposes changes to such categories. Section 61.47 also limits the data that may be included in the required calculations. Section 61.49 was adopted to assist carriers by detailing the information to be filed with each price cap tariff filing as appropriate. Section 61.54 was adopted to inform tariff filers of formatting requirements for each tariff filing. Section 61.55 was adopted to provide the detailed information required when price cap carriers file contract-based tariffs pursuant to section 69.727(a). Section 61.58 was adopted to detail the specific number of days required to provide adequate notice of various types of tariff filings.

Legal Basis: 47 U.S.C. 151, 154(i), 154(j), 201-205 and 403.

Section Number and Title:

61.46(i) Adjustments to the API.

61.47(k) Adjustment to the SBI; pricing bands.

61.49(f)(3), (f)(4), (l) Supporting information to be submitted with letters of transmittal for tariffs of carriers subject to price cap regulation.

61.54(c)(1)(ii), (c)(3)(ii) Composition of tariffs.

61.55 Contract-based tariffs.

61.58(b), (c), (d), (e)(3) Notice requirements.

Subpart F—Specific Rules for Tariff Publications of Dominant and Nondominant Carriers

Brief Description: The Part 61 rules are designed to implement the provisions of sections 201, 202, 203, and 204 of the Communications Act of 1934, as amended, and ensure that rates are just, reasonable, and not unjustly or unreasonably discriminatory. These rules govern the filing, form, content, public notice periods, and accompanying support materials for tariffs.

Need: Section 61.66 was adopted to set forth the carriers to which Part 61, Subpart F applies. Section 61.69 was adopted to detail consequences when the Commission rejects a tariff. Section 61.74 was adopted to assist carriers by detailing the limited instances when a tariff filing entity may make reference to any other tariff, document or instrument in a tariff publication.

Legal Basis: 47 U.S.C. 151, 154(i), 154(j), 201-205 and 403.

Section Number and Title:

61.66 Scope.

61.69 Rejection.

61.74(e), (f) References to other instruments.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

Brief Description: Part 63 implements Section 214 of the Act, which provides that no carrier shall undertake the construction of a new line or extension of any line, or shall acquire or operate any line, or extension thereof, without first having obtained a certificate from the Commission that the present or future public convenience and necessity require the construction and/or operation of such extended line. Section 402(b)(2)(a) of the Telecommunications Act of 1996 exempted line extensions and video programming systems from this requirement, and subsection 63.02 implements this exemption.

Need: The purpose of the 1996 Act is “to promote competition and reduce regulation in order to secure lower prices and higher quality services for American telecommunications consumers and encourage the rapid deployment of new telecommunications technologies.” Consistent with this broad purpose, Congress enacted Section 402(b)(2)(A), intending to “eliminate the Section 214 approval requirement for extension of lines.”

Legal Basis: 47 U.S.C. 214.

Section Number and Title:

63.02 Exemptions for extensions of lines and for systems for the delivery of video programming.

Brief Description: These rules set forth definitions, requirements, and conditions applicable to international Section 214 applications and authorizations to provide global facilities-based and global resale services, including specific information requirements for applications to provide service and required certifications thereof. The rules establish the procedures for streamlined processing of international Section 214 applications, state specific prohibitions to the acceptance of, or the agreement to accept in the future, special concessions by an international Section 214 authorized carrier from a foreign carrier that holds sufficient market power on the foreign end of the route to affect competition adversely in the U.S., and establish a requirement for an authorized carrier or a subsidiary to notify the Commission of name change. The rules also state the requirements and procedures pertinent to pro forma and substantial assignment and transfer of control transactions of international section 214 authorizations. The rules require carriers to file all notifications and other filings electronically through the International Bureau Filing System (IBFS).

Need: These rules are needed to provide the framework applicable to international Section 214 authorizations and establish the general applications, procedures, conditions and restrictions to ensure that carriers and affiliates providing services on international routes meet statutory requirements for designated global facilities-based and global resale telecommunication services.

Legal Basis: 47 U.S.C. 151, 154, 160, 201-205, 214, 218 and 403.

Section Number and Title:

63.09 Definitions applicable to international Section 214 authorizations.

63.10 (c)(5) and (e) Regulatory classification of U.S. international carriers.

63.12(a), (b), (c)(1) Processing of international Section 214 applications.

63.18 (j) through (n) Contents of applications for international common carriers.

63.21(h) and (i) Conditions applicable to all international Section 214 authorizations.

63.22 Facilities-based international common carriers.

63.23 Resale-based international common carriers.

63.24 Assignments and transfers of control.

PART 64—MISCELLANEOUS RULES RELATING TO COMMON CARRIERS

Subpart G—Furnishing of Enhanced Services and Customer-Premises Equipment By Communications Common Carriers; Telephone Operator Services

Brief Description: The Part 64, Subpart G rules are designed to protect consumers. These rules help ensure that carriers provide end users with the information necessary, in a clear format, to make informed decisions about their service options.

Need: Section 64.709 was adopted to ensure that operator service providers meet the specific requirements of section 226(h)(1)(A) of the Communications Act of 1934, as amended, when they file informational tariffs detailing their rates and that parties are not exposed to undue risk of fraud.

Legal Basis: 47 U.S.C. 154, 201, 218, 222, 225, 226, 228, 254(k) and 403(b)(2)(B), (c).

Section Number and Title:

64.709 Informational tariffs.

Subpart I—Allocation of Costs

Brief Description: The Part 64, Subpart I rules detail the acceptable cost allocation processes for carriers required to separate their regulated costs from nonregulated costs. These rules help to ensure that carriers compete fairly in nonregulated markets and that regulated ratepayers do not bear the risks and burdens of the carriers' competitive, or nonregulated, ventures.

Need: Section 64.904 was adopted to detail acceptable methods of compliance with the requirement that carriers that must file cost allocation manuals have those filings reviewed by an independent auditor every two years.

Legal Basis: 47 U.S.C. 154, 201, 218, 222, 225, 226, 228, 254(k) and 403(b)(2)(B), (c).

Section Number and Title:

64.904(b) Independent audits.

Subpart K—Changes in Preferred Telecommunications Service Providers

Brief Description: These rules govern the unauthorized switching of subscribers' preferred telecommunications carriers, an activity more commonly known as “slamming.” These rules are designed to take the profit out of slamming, and to protect consumers and authorized carriers from unauthorized carrier changes by ensuring that consumers have verified their intent to switch providers when authorizing a carrier change. In 1999, the Commission bolstered its efforts to combat slamming by adding four sections to the slamming rules (section 64.1180 was subsequently removed). Section 64.1130, originally promulgated as 64.1160, details the use of letters of agency as a form of authorizing and/or verifying a subscriber's request to change his or her preferred carrier selection. Section 64.1170 sets forth procedures for reimbursing subscribers who have already paid charges to an unauthorized carrier. Section 64.1190 provides further protection against slamming by enabling a subscriber to “freeze” his or her preferred carrier selection, unless the subscriber gives the carrier from whom the freeze was requested his or her express consent to a change.

Need: These rules are intended to deter and ultimately eliminate unauthorized changes in subscribers telecommunications carriers. The rules absolve subscribers of liability for slamming charges in order to ensure that carriers do not profit from slamming activities, and seek to protect consumers from the confusion and inconvenience they would experience as a result of being slammed.

Legal Basis: 47 U.S.C. 151, 154, 201-205, 258 and 303(r).

Section Number and Title:

64.1130 Letter of agency form and content.

64.1170 Reimbursement procedures where the subscriber has paid charges.

64.1190 Preferred carrier freezes.

Subpart U—Customer Proprietary Network Information

Brief Description: Subpart U implements the provisions of section 222 of the Act concerning customer proprietary network information (CPNI). Section 64.2005 describes the circumstances under which carriers may, and may not, use, disclose or permit access to customer CPNI without prior customer approval. Paragraph (d) allows carriers to use, disclose, or permit access to CPNI to protect the rights or property of the carrier, or to protect users of the carrier's services and other carriers from fraudulent, abusive, or unlawful use of or subscription to such services.

Need: The CPNI regulations in section 222 are largely consumer protection provisions that establish restrictions on carrier use and disclosure of personal customer information. The statutory design expressly recognizes the duty of all carriers to protect customer information and embodies the principle that customers must be able to control information they view as sensitive and personal from use, disclosure, and access by carriers. These rules further Congress' goals of fostering competition in telecommunications markets and ensuring the privacy of customer information.

Legal Basis: 47 U.S.C. 222.

Section Number and Title:

64.2005(d) Use of customer proprietary network information without customer approval.

Subpart X—Subscriber List Information

Brief Description: Section 222(e) of the Communications Act requires carriers providing telephone exchange service to provide subscriber list information to requesting directory publishers “on a timely and unbundled basis, under nondiscriminatory and reasonable rates, terms, and conditions.” Subpart X implements this statutory provision, addressing third-party rights to subscriber list information, which includes listed subscribers' names, addresses and telephone numbers, as well as headings under which businesses are listed in yellow pages directories. Subsection 64.2301 lays out the basis and purpose of the rules in this Subpart, and subsection 64.2305 defines the relevant terms referenced in Subpart X.

Need: Subpart X is intended to implement Section 222(e) of the Act and encourage the development of competition in directory publishing by ensuring that competing directory publishers can obtain subscriber list information from LECs.

Legal Basis: 47 U.S.C. 222(e).

Section Number and Title:

64.2301 Basis and purpose.

64.2305 Definitions.

Brief Description: Subpart X implements Section 222(e) of the Act, addressing third-party rights to subscriber list information, which includes listed subscribers' names, addresses and telephone numbers, as well as headings under which businesses are listed in yellow pages directories. Subsection 64.2309 requires telecommunications carriers that provide telephone exchange service to provide subscriber list information gathered in its capacity as a provider of such service on a timely and unbundled basis, under nondiscriminatory and reasonable rates, terms, and conditions, to any person upon request for the purpose of publishing directories in any format.

Need: Subpart X is intended to implement Section 222(e) of the Act and encourage the development of competition in directory publishing by ensuring that competing directory publishers can obtain subscriber list information from LECs.

Legal Basis: 47 U.S.C. 222(e).

Section Number and Title:

64.2309 Provision of subscriber list information.

Brief Description: Subpart X implements Section 222(e) of the Act, addressing third-party rights to subscriber list information, which includes listed subscribers' names, addresses and telephone numbers, as well as headings under which businesses are listed in yellow pages directories. Subsection 64.2313 establishes what constitutes providing subscriber list information on a “timely” basis for the purposes of Subsection 64.2309. Subsection 64.2317 establishes the parameters for providing subscriber list information on an “unbundled” basis for the purposes of Subsection 64.2309.

Need: Subpart X is intended to implement Section 222(e) of the Act and encourage the development of competition in directory publishing by ensuring that competing directory publishers can obtain subscriber list information from LECs.

Legal Basis: 47 U.S.C. 222(e).

Section Number and Title:

64.2313 Timely basis.

64.2317 Unbundled basis.

Brief Description: Subpart X implements Section 222(e) of the Act, addressing third-party rights to subscriber list information, which includes listed subscribers' names, addresses and telephone numbers, as well as headings under which businesses are listed in yellow pages directories. Subsection 64.2321 establishes that telephone exchange service providers meet the “nondiscriminatory rates, terms, and conditions” provision of subsection 64.2309 only if the carrier provides such information at the same rates, terms, and conditions that the carrier provides the information to its own directory publishing operation, its directory publishing affiliate, or other directory publishers. Subsection 64.2325 establishes the requirements for telephone exchange service providers to meet the “reasonable rates, terms, and conditions” provision of Subsection 64.2309.

Need: Subpart X is intended to implement Section 222(e) of the Act and encourage the development of competition in directory publishing by ensuring that competing directory publishers can obtain subscriber list information from LECs.

Legal Basis: 47 U.S.C. 222(e).

Section Number and Title:

64.2321 Nondiscriminatory rates, terms, and conditions.

64.2325 Reasonable rates, terms, and conditions.

Brief Description: Subpart X implements Section 222(e) of the Act, addressing third-party rights to subscriber list information, which includes listed subscribers' names, addresses and telephone numbers, as well as headings under which businesses are listed in yellow pages directories. Subsection 64.2329 establishes the format in which carriers must provide subscriber list information to a requesting directory publisher.

Need: Subpart X is intended to implement Section 222(e) of the Act and encourage the development of competition in directory publishing by ensuring that competing directory publishers can obtain subscriber list information from LECs.

Legal Basis: 47 U.S.C. 222.

Section Number and Title:

64.2329 Format.

Brief Description: Subpart X implements Section 222(e) of the Act, addressing third-party rights to subscriber list information, which includes listed subscribers' names, addresses and telephone numbers, as well as headings under which businesses are listed in yellow pages directories. Subsection 64.2333 establishes who bears the burden of proof in proceedings to resolve disputes over the rates, terms, or conditions that a telephone exchange carrier seeks to impose on a requesting directory publisher.

Need: Subpart X is intended to implement Section 222(e) of the Act and encourage the development of competition in directory publishing by ensuring that competing directory publishers can obtain subscriber list information from LECs.

Legal Basis: 47 U.S.C. 222(e).

Section Number and Title:

64.2333 Burden of proof.

Brief Description: Subpart X implements Section 222(e) of the Act, addressing third-party rights to subscriber list information, which includes listed subscribers' names, addresses and telephone numbers, as well as headings under which businesses are listed in yellow pages directories. Subsection 64.2337 requires third-party directory publishers to use subscriber list information only for the purpose of publishing directories, and defines the term “for the purpose of publishing directories.

Need: Subpart X is intended to implement Section 222(e) of the Act and encourage the development of competition in directory publishing by ensuring that competing directory publishers can obtain subscriber list information from LECs.

Legal Basis: 47 U.S.C. 222(e).

Section Number and Title:

64.2337 Directory publishing purposes.

Brief Description: Subpart X implements Section 222(e) of the Act, addressing third-party rights to subscriber list information, which includes listed subscribers' names, addresses and telephone numbers, as well as headings under which businesses are listed in yellow pages directories. Subsection 64.2341 sets retention periods for carriers to retain written contracts executed for the provision of subscriber list information for directory publishing and to maintain records of any of their rates, terms, and conditions for providing subscriber list information which are not set forth in a written contract.

Need: Subpart X is intended to implement Section 222(e) of the Act and encourage the development of competition in directory publishing by ensuring that competing directory publishers can obtain subscriber list information from LECs.

Legal Basis: 47 U.S.C. 222(e).

Section Number and Title:

64.2341 Record keeping.

Brief Description: Subpart X implements Section 222(e) of the Act, addressing third-party rights to subscriber list information, which includes listed subscribers' names, addresses and telephone numbers, as well as headings under which businesses are listed in yellow pages directories. Subsection 64.2345 describes primary advertising classifications and when such classifications apply.

Need: Subpart X is intended to implement Section 222(e) of the Act and encourage the development of competition in directory publishing by ensuring that competing directory publishers can obtain subscriber list information from LECs.

Legal Basis: 47 U.S.C. 222(e).

Section Number and Title:

64.2345 Primary advertising classification.

Subpart Y—Truth-In-Billing Requirements for Common Carriers

Brief Description: These rules govern the billing practices of telecommunications service providers. The rules provide that consumer telephone bills must be clearly organized, clearly identify the service provider, and highlight any new providers. In addition, the rules require that bills contain full and non-misleading descriptions of charges that appear therein. Where a bill contains charges for basic local service in addition to other charges, the rules require that the bill distinguish between charges for which non-payment will result in disconnection of basic, local service, and charges for which non-payment will not result in such disconnection. Bills must also contain clear and conspicuous disclosure of any information the consumer may need to make inquiries about, or contest, charges on the bill, including a toll-free number by which subscribers may inquire about or dispute any charges on the bill.

Need: These rules are intended to reduce “slamming” and other telecommunications fraud by setting standards for bills for telecommunications service. They are designed to ensure that consumers are provided with the basic information they need to understand their telecommunications bills. They are also intended to provide consumers with the tools they need to make informed choices in a competitive telecommunications marketplace.

Legal Basis: 47 U.S.C. 151, 154(i) and (j), 201-209, 254, 258 and 403.

Section Number and Title:

64.2400 Purpose and scope.

64.2401 Truth-in-Billing Requirements.

PART 68—CONNECTION OF TERMINAL EQUIPMENT TO THE TELEPHONE NETWORK

Subpart D—Conditions for Terminal Equipment Approval

Brief Description: This rule requires that certain telephone handsets sold in the United States that are hearing aid compatible be labeled with the letters “HAC” permanently affixed to them.

Need: The label is necessary to advise consumers before the purchase of a telephone whether it will be compatible with a hearing aid.

Legal Basis: 47 U.S.C. 151, 154, 201-205, 218, 255 and 610.

Section Number and Title:

68.300(b) Labeling requirements.

PART 69—ACCESS CHARGES

Subpart A—General

Brief Description: The Part 69 rules are designed to implement sections 201 and 202 of the Communications Act of 1934, as amended, and protect consumers by preventing the exercise of market power by incumbent local exchange carriers (LECs). These rules help ensure that rates are just, reasonable, and not unjustly or unreasonably discriminatory.

Need: Section 69.4 was adopted to foster competition, move access charges over time to more economically efficient levels and rate structures, preserve universal service, and lower rates by listing the charges to be included in the carrier's carrier charges for access services that are filed by price cap LECs.

Legal Basis: 47 U.S.C. 154, 201-203, 205, 218, 220, 254 and 403.

Section Number and Title:

69.4(d), (i) Charges to be filed.

Subpart H—Pricing Flexibility

Brief Description: The Part 69 rules are designed to implement sections 201 and 202 of the Communications Act of 1934, as amended, and protect consumers by preventing the exercise of market power by incumbent local exchange carriers. These rules help ensure that rates are just, reasonable, and not unjustly or unreasonably discriminatory.

Need: Part 69, Subpart H was adopted to codify the Commission's new pricing flexibility rules. The pricing flexibility rules apply to price cap local exchange carriers and were adopted to ensure that the Commission's regulations did not interfere with the operation of competitive markets by removing services from price cap regulation as competition develops. These rules also were adopted to detail the prerequisites to a grant of pricing flexibility.

Legal Basis: 47 U.S.C. 154, 201-203, 205, 218, 220, 254 and 403.

Section Number and Title:

69.701 Application of rules in this subpart.

69.703 Definitions.

69.705 Procedure.

69.707 Geographic scope of petition.

69.709 Dedicated transport and special access service other than channel terminations between LEC end offices and customer premises.

69.711 Channel terminations between LEC end offices and customer premises.

69.713 Common line, traffic-sensitive, and tandem-switched transport services.

69.725 Attribution of revenues to particular wire centers.

69.727 Regulatory relief.

69.729 New services.

69.731 Low-end adjustment mechanism.

PART 73—RADIO BROADCAST SERVICES

Subpart E—Television Broadcast Stations

Brief Description: This rule requires applicants who request a DTV allotment on channel 6 to submit an engineering study that demonstrates no interference will be caused by the allotment to FM radio stations on FM channels 200-220.

Need: This rule prevents unwanted interference in FM channels 200-220.

Legal Basis: 47 U.S.C. 154, 303, 334 and 336.

Section Number and Title:

73.623(f) DTV applications and changes to DTV allotments.

Brief Description: This rule sets forth standards for collecting field strength data to determine television signal intensity at a specific location.

Need: This rule is needed to ensure standard data collection methodology by parties submitting field strength measurements to the Commission.

Legal Basis: 47 U.S.C. 154, 303, 334 and 336.

Section Number and Title:

73.686(d) Field strength measurements.

Subpart H—Rules Applicable to All Broadcast Stations

Brief Description: This rule sets forth standards for filing contingent applications under specific circumstances.

Need: This rule is needed to ensure that frivolous and unacceptable applications are not submitted for processing by the Commission.

Legal Basis: 47 U.S.C. 154, 303, 334 and 336.

Section Number and Title:

73.3517(e) Contingent applications.

PART 76—MULTICHANNEL VIDEO AND CABLE TELEVISION SERVICE

Subpart A—General

Brief Description: This rule sets forth the requirements for pleadings in multichannel video and cable television service proceedings.

Need: This rule simplifies the Commission's procedural rules for filing petitions and complaints pursuant to part 76.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.6 General pleadings requirements.

Subpart D—Carriage of Television Broadcast Signals

Brief Description: This rule sets forth the requirements for complaints regarding carriage.

Need: This rule simplifies the Commission's procedural rules for filing petitions and complaints pursuant to part 76.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.61(a)(5) Disputes concerning carriage.

Subpart J—Ownership of Cable Systems

Brief Description: This rule sets forth the standard for determining attribution of ownership interests.

Need: This rule clarifies the attribution standards applicable to cable systems.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.501 Note 6 Cross-ownership.

Brief Description: This rule sets forth the standard for determining attribution of ownership interests in vertically integrated programming.

Need: This rule clarifies the attribution standards.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.504 Note 1 Limits on carriage of vertically integrated programming.

Brief Description: These rules set forth the standard for determining attribution of ownership interests when determining the ownership interests of local exchange carriers in a cable operator.

Need: This rule clarifies the attribution standards.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.505 (f) and (g) Prohibition on buy outs.

Subpart N—Cable Rate Regulation

Brief Description: These rules set forth definitions to be used throughout Subpart N.

Need: Subsection (F) defines a small cable operator.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.901(f) Definitions.

Brief Description: These rules set forth the standards for affiliation and attributable interest for the purposes of the conditions in 76.905(b).

Need: This rule clarifies the attribution and affiliation standards.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.905(h) and (i) Standards for identification of cable systems subject to effective competition.

Brief Description: This rule sets forth the standards for filing a petition for a determination of effective competition by a cable operator.

Need: This rule implements provisions of the 1996 Telecommunications Act that reform several parts of Title VI of the Communications Act of 1934.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.907 Petition for a determination of effective competition.

Brief Description: This rule sets forth the standards for filing a petition for a determination of effective competition by a cable operator.

Need: This rule adopts amendments to the cable attribution and affiliation rules, which determine whether an entity is subject to the Commission's cable regulations, in order to more accurately identify interests that confer on their holders the ability to influence or control the operations of a held entity or create the type of economic incentives that the Commission's rules relating to the provision of cable television services are designed to address.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.922(f)(6)(i) and (ii) Rates for basic service tier and cable programming service tiers.

Brief Description: This rule sets forth the standards for transactions and affiliates when making adjustments on account of external costs and rates set on a cost-of-service basis.

Need: This rule adopts amendments to the cable attribution and affiliation rules, which determine whether an entity is subject to the Commission's cable regulations, in order to more accurately identify interests that confer on their holders the ability to influence or control the operations of a held entity or create the type of economic incentives that the Commission's rules relating to the provision of cable television services are designed to address.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.924(i)(6) and (7) Allocation to service cost categories.

Brief Description: This rule sets forth the standards commercial leased access rates.

Need: This rule adopts amendments to the cable attribution and affiliation rules, which determine whether an entity is subject to the Commission's cable regulations, in order to more accurately identify interests that confer on their holders the ability to influence or control the operations of a held entity or create the type of economic incentives that the Commission's rules relating to the provision of cable television services are designed to address.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.970(c) Commercial leased access rates.

Brief Description: This rule sets forth the standards for geographically uniform cable rates.

Need: This rule implements provisions of the 1996 Telecommunications Act that reform several parts of Title VI of the Communications Act of 1934, including sections on effective competition to a cable system, small cable operator rules, uniform rate requirements, technical standards, and the sunset of the Commission's role in regulating rates on the cable service programming tier.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.984(c)(3) Geographically uniform rate structure.

Brief Description: This rule sets forth the standards for small cable operators to claim exemption from rate regulation.

Need: This rule implements provisions of the 1996 Telecommunications Act which exempt small cable operators meeting certain criteria from some rate regulation.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.990 Small cable operators.

Subpart P—Competitive Availability of Navigation Devices

Brief Description: This rule exempts certain navigation devices from the requirements of sections (a)(1), (b), and (c) of the rule.

Need: This rule implements Section 629 of the Communications Act to achieve commercial availability of set top boxes and other consumer equipment used to receive video signals and other services.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.1204(f) Availability of equipment performing conditional access or security functions.

Subpart Q—Regulation of Carriage Agreements

Brief Description: These rules set forth definitions to be used throughout Subpart Q.

Need: Subsection (b) clarifies the attribution and affiliation standards for program carriage.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.1300(b) Definitions.

Subpart S—Open Video Systems

Brief Description: These rules set forth definitions to be used throughout Subpart S.

Need: Subsection (h) clarifies the attribution and affiliation standards for open video systems.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.1500(h) Definitions.

PART 80—STATIONS IN THE MARITIME SERVICES

Subpart P—Standards for Computing Public Coast Station VHF Coverage

Brief Description: The Part 80 rules set forth the conditions under which portions of the radio spectrum are made available and licensed for stations in the maritime services. Subpart P sets forth the standards for computing public coast station VHF coverage.

Need: This rule clarifies the co-channel interference protection standards for VHF public coast geographic licensees by limiting a field strength at their service area boundaries to +5 dBu, unless a higher field strength is agreed upon by all the affected VHF public coast station geographic area licensees.

Legal Basis: 47 U.S.C. 154, 303, 307, 309 and 332.

Section Number and Title:

80.773(c) Co-channel interference protection.

PART 87—AVIATION SERVICES

Subpart D—Technical Requirements

Brief Description: The Part 87 rules set forth the conditions under which portions of the radio spectrum are made available and licensed for stations in the aviation services. Subpart D sets forth technical requirements for such stations.

Need: This rule sets forth emission limitations for differential GPS ground stations transmitting in the 112-118 MHz band in order to avoid harmful interference to existing VHF omni-range (VOR) transmissions in the band.

Legal Basis: 47 U.S.C. 154, 303 and 307(e).

Section Number and Title:

87.139(j) Emission limitations.

Subpart G—Aeronautical Multicom Stations

Brief Description: The Part 87 rules set forth the conditions under which portions of the radio spectrum are made available and licensed for stations in the aviation services. Subpart G sets forth requirements for aeronautical multicom stations.

Need: This rule permits the operation of unicom stations in an unattended, automatic mode, because automated unicoms have the potential to promote air safety and reduce congestion on unicom frequencies.

Legal Basis: 47 U.S.C. 154, 303 and 307(e).

Section Number and Title:

87.219 Automatic operations.

Subpart Q—Stations in the Radiodetermination Service

Brief Description: The Part 87 rules set forth the conditions under which portions of the radio spectrum are made available and licensed for stations in the aviation services. Subpart Q sets forth requirements for stations in the radiodetermination service.

Need: This rule allows entities participating in the FAA's SCAT-I landing and approach system to use unassigned VOR frequencies in the 112-118 MHz band to transmit differential GPS augmentation data to aircraft. Permitting such use improves safety in air navigation by promoting the use of satellite technology for the precision landing of aircraft.

Legal Basis: 47 U.S.C. 154, 303 and 307(e).

Section Number and Title:

87.475(e) Frequencies.

PART 90—PRIVATE LAND MOBILE RADIO SERVICES

Subpart B—Public Safety Radio Pool

Brief Description: The Part 90 rules state the conditions under which radio communications systems may be licensed and used in the Public Safety, Industrial/Business Radio Pool, and Radiolocation Radio Services. Subpart B sets forth requirements for entities holding authorizations in the Public Safety Pool. As a general matter, Section 90.20(d)(66) specifies frequency pairs and equipment requirements for the delivery of medical care services.

Need: In 1999 the Commission “added” subparagraph (v) and (vi) to Section 90.20(d)(66). Subparagraph (v) exempts portable (hand-held) units operated with a maximum output power of 2.5 watts from the multi-channel equipment requirements specified in Sections 90.20(d)(66)(ii), (iii) and (iv). Subparagraph (vi) requires stations located in areas above line A to meet multi-channel equipment requirements only for those frequencies up to the number specified in Section 90.20(d)(66)(ii), (d)(66)(iii), and (d)(66)(iv) that have been assigned and coordinates with Canada in accordance with the applicable U.S.-Canada agreement. We note that the general content of 90.20(d)(66)(v) and (vi), had been codified under 90.20(c) in 1993 when the Commission established the Emergency Medical Service.

Legal Basis: 47 U.S.C. 154(i), 303(r) and 332(a)(2).

Section Number and Title:

90.20(d)(66)(v) and (vi) Public Safety Pool.

Brief Description: The Part 90 rules state the conditions under which radio communications systems may be licensed and used in the Public Safety, Industrial/Business Radio Pool, and Radiolocation Radio Services. Subpart B sets forth requirements for entities holding authorizations in the Public Safety Pool. This rule prohibits paging operations on certain public safety frequencies.

Need: This rule describes an assignment limitation.

Legal Basis: 47 U.S.C. 154, 303, 309 and 332.

Section Number and Title:

90.20(d)(78) Public Safety Pool.

Subpart C—Industrial/Business Radio Pool

Brief Description: The Part 90 rules state the conditions under which radio communications systems may be licensed and used in the Public Safety, Industrial/Business Radio Pool, and Radiolocation Radio Services. Subpart C sets forth requirements for entities holding authorizations in the Industrial/Business Pool.

Need: These rules state that applications for certain frequencies in the Industrial/Business Pool require concurrence from the Petroleum Coordinator only if authorization is requested for transmitters in certain states. They also permit railroad licensees in the Industrial/Business Radio Pool to utilize 24.10 GHz to operate safety warning transmitters on locomotives or near railroad crossings for the purpose of alerting motorists to the presence of an approaching train.

Legal Basis: 47 U.S.C. 154, 303, 309 and 332.

Section Number and Title:

90.35(c)(80), (c)(81), and (d)(7) Industrial/Business Pool.

Subpart H—Policies Governing the Assignment of Frequencies

Brief Description: The Part 90 rules state the conditions under which radio communications systems may be licensed and used in the Public Safety, Industrial/Business Radio Pool, and Radiolocation Radio Services. Subpart H sets forth the policies governing the assignment of frequencies.

Need: These rules specify the policies governing the assignment of frequencies. The rules also limit the number of channels for trunked operations applicants can apply for.

Legal Basis: 47 U.S.C. 154, 303, 309 and 332.

Section Number and Title:

90.173(j) Policies governing the assignment of frequencies.

90.187(e) and (f) Trunking in the bands between 150 and 512 MHz.

Subpart I—General Technical Standards

Brief Description: The part 90 rules state the conditions under which radio communications systems may be licensed and used in the Public Safety, Industrial/Business Radio Pool, and Radiolocation Radio Services. Subpart I sets forth the rules governing the general technical standards.

Need: This rule sets forth power and antenna height limits.

Legal Basis: 47 U.S.C. 154, 303, 309 and 332.

Section Number and Title:

90.205(q) Power and antenna height limits.

Subpart K—Standards for Special Frequencies or Frequency Bands

Brief Description: The part 90 rules state the conditions under which radio communications systems may be licensed and used in the Public Safety, Industrial/Business Radio Pool, and Radiolocation Radio Services. Subpart K sets forth the rules governing the standards for special frequencies or frequency bands.

Need: This rule governs the assignment and use of frequencies in the 450-470 MHz band for low power use.

Legal Basis: 47 U.S.C. 154, 303, 309 and 332.

Section Number and Title:

90.267(b), (c) and (d) Assignment and use of frequencies in the 450-470 MHz band for low power use.

Subpart M—Intelligent Transportation Systems Radio Service

Brief Description: The part 90 rules state the conditions under which radio communications systems may be licensed and used in the Public Safety, Industrial/Business Radio Pool, and Radiolocation Radio Services. Subpart M sets forth requirements for stations in the intelligent transportation systems radio service.

Need: This rule defines Dedicated Short-Range Communications Service (DSRCS) and specifies the coordination requirements for such services.

Legal Basis: 47 U.S.C. 154, 303, 309 and 332.

Section Number and Title:

90.371 Dedicated short range communications service.

PART 95—PERSONAL RADIO SERVICES

Subpart A—General Mobile Radio Service (GMRS)

Brief Description: The Part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart A applies to the General Mobile Radio Service.

Need: The rule specifies what a General Mobile Radio Service license authorizes.

Legal Basis: 47 U.S.C. 154 and 303.

Section Number and Title:

95.101(d) What the license authorizes.

Subpart D—Citizens Band (CB) Radio Service

Brief Description: The Part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart D applies to the Citizens Band (CB) Radio Service.

Need: The rule defines the Citizens Band Radio Services.

Legal Basis: 47 U.S.C. 154 and 303.

Section Number and Title:

95.401(d) (CB Rule 1) What are the Citizens Band Radio Services?

Subpart E—Technical Regulations

Brief Description: The Part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart E contains technical regulations.

Need: The rules specify technical standards for Medical Implant Communications Service transmitters.

Legal Basis: 47 U.S.C. 154 and 303.

Section Number and Title:

95.603(f) Certification required.

95.628 MICS transmitter.

95.631(h) Emission types.

95.633(e) Emission bandwidth.

95.639(f) Maximum transmitter power.

Subpart F—218-219 MHz Service

Brief Description: The Part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart F sets out regulations governing the licensing and operation of a 218-219 MHz system.

Need: Section 95.807 requires applicants seeking authorizations for systems in the 218-219 MHz Service to specify the regulatory status requested. Section 95.812 specifies the term of a 218-219 MHz service system license. Section 95.823 sets forth rules pertaining to geographic partitioning and spectrum disaggregation of such licenses.

Legal Basis: 47 U.S.C. 154 and 303.

Section Number and Title:

95.807 Requesting regulatory status.

95.812 License term.

95.823 Geographic partitioning and spectrum disaggregation.

Subpart I—Medical Implant Communications (MICS)

Brief Description: The Part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart I sets forth regulations governing the operation of Medical Implant Communications Service transmitters.

Need: These rules implement the majority of MICS requirements.

Legal Basis: 47 U.S.C. 154 and 303.

Section Number and Title:

95.1201 Eligibility.

95.1203 Authorized locations.

95.1205 Station identification.

95.1207 Station inspection.

95.1209 Permissible communications.

95.1211 Channel use policy.

95.1213 Antennas.

95.1215 Disclosure policies.

95.1217 Labeling requirements.

[FR Doc. 2011-6444 Filed 3-17-11; 8:45 am]

BILLING CODE 6712-01-P